DEPARTMENT OF AGRICULTURE

Office of the Secretary

7 CFR Part 1

[Docket No. 00-083-1]

Subpoenas Issued Under the Plant Protection Act and Title V of the Agricultural Risk Protection Act of 2000

AGENCY: Office of the Secretary, USDA.

ACTION: Final rule.

SUMMARY: We are amending the administrative regulations of the Office of the Secretary of Agriculture to reflect the provisions of the Plant Protection Act and Title V of the Agricultural Risk Protection Act of 2000 regarding subpoenas. Under the Plant Protection Act, the Secretary of Agriculture can subpoena witnesses and documents relating to the administration or enforcement of the Plant Protection Act or any matter being investigated in connection with the Plant Protection Act. Under Title V of the Agricultural Risk Protection Act of 2000, the Secretary of Agriculture can subpoena witnesses and documents relating to the enforcement of that title or the investigation of persons harming or interfering with animals used in official U.S. Department of Agriculture inspections. The final rule is necessary to establish regulations governing issuance of subpoenas under these authorities.

EFFECTIVE DATE: July 16, 2001.

FOR FURTHER INFORMATION CONTACT: Ms. Meredith Jones, Regulatory Coordination Specialist, Regulatory Coordination, APHIS Plant Health Programs, PPQ, APHIS, 4700 River Road Unit 141, Riverdale, MD 20737-1236; (301) 734-7467.

SUPPLEMENTARY INFORMATION:

Background

The Animal and Plant Health Inspection Service (APHIS), through its Plant Protection and Quarantine program (PPQ), regulates plants and plant products and other commodities to prevent the importation or spread of diseases and pests. When it appears that PPQ regulations have been violated, APHIS conducts an investigation. Until the Plant Protection Act (PPA, 7 U.S.C. 7701-7772) became law, APHIS did not have authority to subpoena documents and other records for use in PPQ investigation cases. This sometimes hampered the Agency's ability to enforce its PPQ regulations.

Section 423 of the PPA (7 U.S.C. 7733) gives the Secretary of Agriculture (Secretary, USDA) authority to issue subpoenas for testimony and for documents and other records relating to administration or enforcement of the PPA. This authority has been delegated from the Secretary to the Under Secretary of Marketing and Regulatory Programs, and from the Under Secretary of Marketing and Regulatory Programs to the Administrator, APHIS (7 CFR 2.22 and 2.80). In addition, Title V of the Agricultural Risk Protection Act of 2000 authorizes the Secretary to subpoena witnesses and documents relating to the investigation or enforcement of section 501 of that title. Section 501 authorizes the Secretary to assess a civil penalty not to exceed $10,000 against any person who causes harm to, or interferes with, an animal used for official inspections by USDA.

The PPA and Title V of the Agricultural Risk Protection Act of 2000 require that we publish procedures for issuing subpoenas. According to § 422(e) of the PPA (7 U.S.C. 7733) and § 502(e) of Title V of the Agricultural Risk Protection Act of 2000, the procedures must “include a requirement that subpoenas be reviewed for legal sufficiency and signed by the Secretary. If the authority to sign a subpoena is delegated, the agency receiving the delegation shall seek review for legal sufficiency outside that agency.”

In order to comply with these requirements, we are amending 7 CFR 1.29 and 1.131. Section 1.29 governs the issuance of subpoenas relating to investigations under statues administered by the Secretary. We are adding a new paragraph (3) to state that the Office of the General Counsel, USDA, will review for legal sufficiency subpoenas issued under the PPA and Title V of the Agricultural Risk Protection Act of 2000. Section 1.131 comes under subpart H of part. 1. Subpart H contains rules of practice for formal adjudicatory proceedings instituted by the Secretary under various statutes. We are amending § 1.131 to add the PPA and Title V of the Agricultural Risk Protection Act of 2000 to the list of covered statutes.

This rule relates to internal agency management. Therefore, this rule is exempt from the provisions of Executive Orders 12866 and 12988. Moreover, pursuant to 5 U.S.C. 553, notice of proposed rulemaking and opportunity for comment are not required for this rule, and it may be made effective less than 30 days after publication in the Federal Register. In addition, under 5 U.S.C. 804, this rule is not subject to congressional review under the Small Business Regulatory Enforcement Fairness Act of 1996, Pub. L. 104-121. Finally, this action is not a rule as defined by 5 U.S.C. 601 et seq., the Regulatory Flexibility Act, and thus is exempt from the provisions of that Act.

Paperwork Reductions Act

This rule contains no information collections and recordkeeping requirements under the Paperwork Regulation Act of 1955 (44 U.S.C. 2501 et seq.).

List of Subjects in 7 CFR Part 1

Administrative practice and procedure, Agriculture, Antitrust, Blind, Claims, Concessions, Cooperatives, Equal access to justice, Federal buildings and facilities, Freedom of information, Lawyers, Privacy.

Accordingly, we are amending 7 CFR part 1 as follows:

PART 1—ADMINISTRATIVE REGULATIONS

1. The authority citation for part 1 continues to read as follows:

Authority: 5 U.S.C. 301, unless otherwise noted.

Subpart B—Departmental Proceedings

2. In § 1.29, a new paragraph (a)(3) is added to read as follows:

§ 1.29 Subpoenas relating to investigations under statutes administered by the Secretary of Agriculture.

(a) * * *

(3) In the case of a subpoena issued under the Plant Protection Act (7 U.S.C. 7701-7772) or Title V of the Agricultural Risk Protection Act of 2000 (7 U.S.C. 2279e-2279f), the subpoena will be reviewed for legal sufficiency by the Office of the General Counsel, USDA.

* * * * *

Subpart H—Rules of Practice Governing Formal Adjudicatory Proceedings Instituted by the Secretary Under Various Statutes

3. The authority citation for Subpart H is revised to read as follows:

Authority: 5 U.S.C. 301; 7 U.S.C. 61, 87e, 149, 150gg, 162, 163, 164, 228, 268, 499o, 608c(14), 1592, 1624(b), 2151, 2279e, 2621, 2714, 2908, 3812, 4610, 4815, 4910, 6009, 6107, 6207, 6307, 6411, 6808, 7107, 7734; 15 U.S.C. 1828; 16 U.S.C. 620d, 1540(f), 3373; 21 U.S.C. 104, 111, 117, 120, 122, 127, 134e, 134f, 135a, 154, 463(b), 621, 1043; 43 U.S.C. 1740; 7 CFR 2.35, 2.41.

§ 1.131 [Amended]

4. In § 1.131, paragraph (a) is amended by adding, in alphabetical order, “Plant Protection Act, section 424 (7 U.S.C. 7734),” and “Title V of the Agricultural Risk Protection Act of 2000, section 501(a) (7 U.S.C. 2279e).”

Dated: July 9, 2001.
Ann M. Veneman,
Secretary of Agriculture.

[FR Doc. 01-17652 Filed 7-13-01; 8:45 am]

BILLING CODE 3410-34-M